DEPARTMENT OF COMMERCE

National Oceanic and Atmospheric Administration

[RTID 0648-XC634]

Pacific Fishery Management Council; Public Meeting

AGENCY: National Marine Fisheries Service (NMFS), National Oceanic and Atmospheric Administration (NOAA), Commerce.

ACTION: Notice of public meeting.

SUMMARY: The Pacific Fishery Management Council's (Pacific Council) Coastal Pelagic Species Management Team (CPSMT) will hold a public meeting.

DATES: The meeting will be held Tuesday, January 24 and Wednesday, January 25, 2023, from 8:30 a.m. to 5 p.m., Pacific Standard Time, or until business for the day has been completed, and Thursday, January 26, 2023 from 8:30 a.m. to 12 p.m. or until business for the day has been completed in a hybrid format with the CPSMT meeting in person with live streaming and remote participation options.

ADDRESSES: This meeting will be held at the Pacific Room of the Southwest Fisheries Science Center at 8901 La Jolla Shores Dr., La Jolla, CA 92037. Specific meeting information, including directions on joining the meeting, connecting to the live stream broadcast, and system requirements will be provided in the meeting announcement on the Pacific Council's website (see www.pcouncil.org).

Council address: Pacific Fishery Management Council, 7700 NE Ambassador Place, Suite 101, Portland, OR 97220-1384.

FOR FURTHER INFORMATION CONTACT: Jessi Doerpinghaus, Staff Officer, Pacific Council; telephone: (503) 820-2415.

SUPPLEMENTARY INFORMATION: The primary purpose of this meeting is to discuss and develop work products and recommendations for the Pacific Council's April 2023 meeting. Topics will include essential fish habitat review and Fishery Management Plan housekeeping. Other items on the Pacific Council's April agenda or future Council agendas may be discussed as well. The CPSMT will also be discussing changes to the CPS stock assessment and fishery evaluation (SAFE) document. The meeting agenda will be available on the Pacific Council's website in advance of the meeting.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

Requests for sign language interpretation or other auxiliary aids should be directed to Mr. Kris Kleinschmidt (kris.kleinschmidt@noaa.gov; (503) 820-2412) at least 10 days prior to the meeting date.

Authority: 16 U.S.C. 1801 et seq.

Dated: January 4, 2023.
Rey Israel Marquez,
Acting Deputy Director, Office of Sustainable Fisheries, National Marine Fisheries Service.

[FR Doc. 2023-00194 Filed 1-9-23; 8:45 am]

BILLING CODE 3510-22-P